FEDERAL COMMUNICATIONS COMMISSION

[DA 01-36]

Amateur Service Club and Military Recreation Station Call Sign Administrators Announced

AGENCY: Federal Communications Commission.

ACTION: Notice.

SUMMARY: This document announces that the Commission has accepted requests from three organizations interested in processing applications for amateur service club, Radio Amateur Civil Emergency Service (RACES), and military recreation station call signs. The organizations are designated as a “Club Station Call Sign Administrators” (CSCSA) and will process applications for amateur service club, RACES, and military recreation station call signs.

DATES: Starting January 22, 2001, the FCC will accept applications for new, modification of, or renewal of amateur service club and military recreation station licenses, and modification of RACES station licenses, only from a CSCSA.

FOR FURTHER INFORMATION CONTACT: William T. Cross, Public Safety and Private Wireless Division, Wireless Telecommunications Bureau, (202) 418-0680.

SUPPLEMENTARY INFORMATION: In a Public Notice released on January 3, 2000, the Federal Communications Commission (FCC) announced that it would accept requests from organizations interested in processing applications for amateur service club, RACES, and military recreation station call signs pursuant to an October 21, 1998, Report and Order, 63 FR 68904, December 14, 1998, reinstituting the use of volunteer organizations for the purpose of processing applications for amateur service club and military recreation station call sign. A club station license is an amateur service station license granted only to the trustee of an amateur service club, which must be composed of at least four persons and have a name, a document of organization, management, and a primary purpose devoted to amateur service activities consistent with part 97 of the FCC's rules. A military recreation station license is an amateur service station license granted only to the person who is the license custodian designated by the official in charge of the United States military recreational premises where the station is situated. A RACES station license is an amateur service station license granted only to the person who is the license custodian designated by the official responsible for the governmental agency served by that civil defense organization and also authorizes only the use of a specific call sign.

The purpose of this Public Notice is to announce that beginning January 22, 2001, the FCC will accept the services of three organizations as CSCSAs. An organization designated as a CSCSA has provided information showing: (1) That it is an amateur radio organization; (2) that it has tax-exempt status under Section 501(c)(3) of the Internal Revenue Code of 1986; (3) that it will provide voluntary, uncompensated and unreimbursed services for processing applications for club, RACES, and military recreation station call signs; (4) that it will submit the information to the FCC in an electronic batch file; and (5) that it will retain the application information for at least 15 months and make it available to the FCC upon request. A CSCSA may collect all necessary information in any manner of its choosing, including creating its own forms. The following organizations have successfully completed a pilot autogrant batch filing project and are authorized as CSCSAs to process applications for amateur service club, RACES, and military recreation station call signs and submit the information to the FCC in an electronic batch file:

American Radio Relay League, Inc., 225 Main Street, Newington, CT 06111. Contact: Wayne Irwin (860) 594-0200; world wide web: http://www.arrl.org; e-mail: clubcalls@arrl.org.

W4VEC Volunteer Examiners Club of America,. 3504 Stonehurst Place, High Point, NC 27265. Contact: Jim Williamson (336) 841-7576; world wide web: http://www.w4vec.com; e-mail: w4vec@aol.com.

W5YI-VEC, P.O. Box 565101, Dallas, TX 75356-5101. Contact: Larry Pollock (817) 461-6443; world wide web: http://www.w5yi.org; e-mail: NB5X@w5yi.org.

Federal Communications Commission.
Magalie Roman Salas,
Secretary.

[FR Doc. 01-2438 Filed 1-26-01; 8:45 am]

BILLING CODE 6712-01-P